DEPARTMENT OF LABOR

Employment and Training Administration

[TA-W-59,654]

House of Perfection, Inc., West Columbia, SC; Notice of Termination of Investigation

Pursuant to Section 221 of the Trade Act of 1974, as amended, an investigation was initiated on June 29, 2006, in response to a petition filed by a company official on behalf of workers of House of Perfection, Inc., West Columbia, South Carolina.

The petition has been deemed invalid because the petition is not dated. Consequently, further investigation would serve no purpose, and the investigation has been terminated.

Signed at Washington, DC, this 13th day of July 2006.
Linda G. Poole,
Certifying Officer, Division of Trade Adjustment Assistance.

[FR Doc. E6-13043 Filed 8-9-06; 8:45 am]

BILLING CODE 4510-30-P